ENVIRONMENTAL PROTECTION AGENCY

[EPA-R07-OW-2018-0565; FRL-9988-85-Region 7]

Notice of Approval of the Primacy Revision Application for the Public Water System Supervision Program From the State of Kansas

AGENCY: Environmental Protection Agency (EPA).

ACTION: Notice of approval and solicitation of requests for a public hearing.

SUMMARY: The Environmental Protection Agency (EPA) is hereby giving notice that the state of Kansas is revising its approved Public Water System Supervision Program delegated to the Kansas Department of Health and Environment. EPA has reviewed the application and intends to approve these program revisions.

DATES: This determination to approve the Kansas program revision is made pursuant to 40 CFR 142.12(d)(3). This determination shall become final and effective on March 11, 2019, unless (1) a timely and appropriate request for a public hearing is received or (2) the Regional Administrator elects to hold a public hearing on his own motion. Any interested person, other than Federal Agencies, may request a public hearing.

A request for a public hearing must be submitted to the Regional Administrator at the address shown below by March 11, 2019. If a request for a public hearing is made within the requested thirty-day time frame, a public hearing will be held and a notice will be given in the Federal Register and a newspaper of general circulation. Frivolous or insubstantial requests for a hearing may be denied by the Regional Administrator. If no timely and appropriate request for a hearing is received, and the Regional Administrator does not elect to hold a hearing on his own motion, this determination will become effective on March 11, 2019.

All interested parties may request a public hearing on the approval to the Regional Administrator at the EPA Region 7 address shown below.

ADDRESSES: Any request for a public hearing shall include the following information: (1) Name, address and telephone number of the individual, organization or other entity requesting a hearing; (2) a brief statement of the requesting person's interest in the Regional Administrator's determination and a brief statement on information that the requesting person intends to submit at such hearing; (3) the signature of the individual making the request or, if the request is made on behalf of an organization or other entity, the signature of a responsible official of the organization or other entity. Requests for Public Hearing shall be addressed to: Regional Administrator, Environmental Protection Agency, Region 7, 11201 Renner Boulevard, Lenexa, Kansas 66219.

All documents relating to this determination are available for inspection between the hours of 9:00 a.m. and 3:00 p.m., Monday through Friday at the following offices: (1) Environmental Protection Agency, Region 7, Drinking Water Management Branch, Water Wetlands and Pesticides Division, 11201 Renner Boulevard, Lenexa, Kansas 66219 and (2) the Kansas Department of Health and Environment Natural Resources, Public Water Supply Section, Bureau of Water, Curtis State Office Building, 1000 SW Jackson, Suite 420, Topeka, Kansas 66612.

FOR FURTHER INFORMATION CONTACT: Douglas J. Brune, Environmental Protection Agency, Region 7, Drinking Water Management Branch, (913) 551-7178, or by email at brune.doug@epa.gov.

SUPPLEMENTARY INFORMATION: The EPA is hereby giving notice that the state of Kansas is revising its approved Public Water System Supervision Program delegated to the Kansas Department of Health and Environment. The Kansas Department of Health and Environment revised their program by incorporating the following EPA National Primary Drinking Water Regulation: Stage 2 Disinfectants and Disinfection Byproducts Rule (Vol. 71, No. 2, Jan. 4, 2006, Pages 387-493), Long Term 2 Enhanced Surface Water Treatment Rule (Vol. 71, No. 3, Jan. 5, 2006, Pages 653-786), Ground Water Rule (Vol. 71, No. 216, Nov. 8, 2006, Pages 65573-65660), Lead and Copper Rule: Short-Term Regulatory Revisions and Clarifications (Vol. 72, No. 195, Oct. 10, 2007, Pages 57781-57820), and Revised Total Coliform Rule (Vol. 78, No. 30, Feb. 13, 2013, Pages 10269-10365). EPA has reviewed the application and determined that the revisions are no less stringent than the corresponding Federal regulations and that the state of Kansas continues to meet all requirements for primary enforcement responsibility as specified in 40 CFR 142.10. Therefore, EPA intends to approve these program revisions.

(Authority: Section 1413 of the Safe Drinking Water Act, as amended, and 40 CFR 142.10, 142.12(d) and 142.13)

Dated: December 18, 2018.
James B. Gulliford,
Regional Administrator, Region 7.

[FR Doc. 2019-01551 Filed 2-7-19; 8:45 am]

BILLING CODE 6560-50-P